FEDERAL ACCOUNTING STANDARDS ADVISORY BOARD

Notice of 2023 FASAB Meetings

AGENCY: Federal Accounting Standards Advisory Board.

ACTION: Notice.

SUMMARY: Notice is hereby given that the Federal Accounting Standards Advisory Board (FASAB) will hold its meetings on the following dates throughout 2023, unless otherwise noted.

DATES:

February 22-23, 2023

April 18-19, 2023

June 13-14, 2023

August 16-17, 2023

October 17-18, 2023

December 12-13, 2023

ADDRESSES: Unless otherwise noted, FASAB meetings begin at 9 a.m. and conclude before 5 p.m. and are held at the U.S. Government Accountability Office (GAO) Building at 441 G St. NW, in Room 7C13. The February meeting will be held virtually.

Agendas, briefing materials, and teleconference information for virtual meetings will be available at https://www.fasab.gov/briefing-materials/ approximately one week before each meeting. If FASAB decides to hold its April, June, August, October, and/or December meetings virtually, this decision will be posted no later than one week before each meeting on the briefing materials website as well.

Any interested person may attend the meetings as an observer. Board discussion and reviews are open to the public. GAO Building security requires advance notice of your attendance. If you wish to attend a FASAB meeting, please register on our website at https://www.fasab.gov/pre-registration/ no later than 5 p.m. the Friday before the meeting to be observed.

FOR FURTHER INFORMATION CONTACT: Ms. Monica R. Valentine, Executive Director, 441 G Street NW, Suite 1155, Washington, DC 20548, or call (202) 512-7350.

SUPPLEMENTARY INFORMATION: The purpose of the meetings is to discuss issues related to the following topics:

Accounting and Reporting of Government Land

Climate-Related Financial Reporting

Intangible Assets

Leases

Omnibus Amendments

Public-Private Partnerships

Reexamination of Existing Standards

Concepts Omnibus

Management's Discussion and Analysis

Software Technology

Appointments Panel

Any other topics as needed

Notice is hereby given that a portion of each scheduled meeting may be closed to the public. The Appointments Panel, a subcommittee of FASAB that makes recommendations to the Board regarding appointments for non-federal member positions, is expected to meet during each meeting. A portion of each Appointments Panel meeting will be closed to the public. The reason for the closures is that matters covered by 5 U.S.C. 552b(c)(2) and (6) will be discussed. Any such discussions will involve matters that relate solely to internal personnel rules and practices of the sponsor agencies and the disclosure of information of a personal nature where disclosure would constitute a clearly unwarranted invasion of personal privacy. Such discussions will be segregated into separate discussions so that a portion of each meeting will be open to the public.

Pursuant to section 10(d) of the Federal Advisory Committee Act (FACA), 5 U.S.C. 1009(d), portions of advisory committee meetings may be closed to the public where the head of the agency to which the advisory committee reports determines that such portion of such meeting may be closed to the public in accordance with subsection (c) of section 552b of title 5, United States Code. The determination shall be in writing and shall contain the reasons for the determination. A determination has been made in writing by the U.S. Government Accountability Office, the U.S. Department of the Treasury, and the Office of Management and Budget, as required by section 10(d) of FACA, that such portions of the meetings may be closed to the public in accordance with subsection (c) of section 552b of title 5, United States Code.

Authority: 31 U.S.C. 3511(d); Federal Advisory Committee Act, 5 U.S.C. 1001-1014.

Dated: February 2, 2023.
Monica R. Valentine,
Executive Director.

[FR Doc. 2023-02554 Filed 2-7-23; 8:45 am]

BILLING CODE P